DEPARTMENT OF COMMERCE

National Oceanic and Atmospheric Administration

U.S. Coral Reef Task Force Public Meeting and Public Comment

AGENCY: National Ocean Service, NOAA, Department of Commerce.

ACTION: Notice of public meeting, Notice of public comment.

SUMMARY: Notice is hereby given of a public meeting of the U.S. Coral Reef Task Force. The meeting will be held in Washington, DC This meeting, the 27th bi-annual meeting of the U.S. Coral Reef Task Force, provides a forum for coordinated planning and action among federal agencies, state and territorial governments, and nongovernmental partners. Please register in advance by visiting the Web site listed below. This meeting has time allotted for public comment. All public comment must be submitted in written format. A written summary of the meeting will be posted on the Web site within two months of its occurrence.

DATES: The meeting will be held Thursday, February 23, 2012. Registration is requested for all participants. Advance public comments can be submitted to the email, fax, or mailing address listed below from Wednesday, February 1-Wednesday, February 15.

Location: The meeting will be held at the U.S. Department of the Interior, 1849 C Street NW., Washington, DC 20240.

FOR FURTHER INFORMATION CONTACT: Beth Dieveney, NOAA U.S. Coral Reef Task Force Steering Committee Point of Contact, NOAA Coral Reef Conservation Program, 1305 East-West Highway, Silver Spring, Maryland, 20910 (Phone: (301) 713-3155 ext. 129, Fax: (301) 713-4389, email: beth.dieveney@noaa.gov, Liza Johnson, U.S. Coral Reef Task Force Steering Committee Point of Contact, U.S. Department of the Interior, 1849 C Street NW., Washington, DC 20240 (Phone: (202) 208-1378, email: Liza_m_Johnson@ios.doi.gov), or visit the U.S. Coral Reef Task Force Web site at www.coralreef.gov.)

SUPPLEMENTARY INFORMATION: Established by Presidential Executive Order 13089 in 1998, the U.S. Coral Reef Task Force mission is to lead, coordinate, and strengthen U.S. government actions to better preserve and protect coral reef ecosystems. Co-chaired by the Departments of Commerce and Interior, Task Force members include leaders of 12 Federal agencies, seven U.S. states and territories, and three freely associated states. For more information about the meeting, registering, and submitting public comment go to www.coralreef.gov.

Dated: January 27, 2012.
Donna Wieting,
Director, Office of Ocean and Coastal Resource Management, National Ocean Service, National Oceanic Atmospheric Administration.

[FR Doc. 2012-2957 Filed 2-8-12; 8:45 am]

BILLING CODE 3510-08-P